DEPARTMENT OF COMMERCE

International Trade Administration

[A-570-919]

Electrolytic Manganese Dioxide From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on electrolytic manganese dioxide from the People's Republic of China (China) would likely lead to continuation or recurrence of dumping and material injury to an industry in the United States, Commerce is publishing a notice of continuation of the AD order.

DATES: Applicable July 8, 2020.

FOR FURTHER INFORMATION CONTACT: Thomas Hanna or Howard Smith, AD/CVD Operations, Office IV, Enforcement and Compliance, International Trade Administration, U.S. Department of Commerce, 1401 Constitution Avenue NW, Washington, DC 20230; telephone: (202) 482-0835 or (202) 482-5193, respectively.

SUPPLEMENTARY INFORMATION:

Background

On October 7, 2008, Commerce published in the Federal Register the AD order on electrolytic manganese dioxide from China.¹ On December 2, 2019, the ITC instituted and Commerce initiated the second sunset review of the Order pursuant to section 751(c) of the Tariff Act of 1930, as amended (the Act).² Commerce conducted this sunset review on an expedited basis, pursuant to section 751(c)(3)(B) of the Act and 19 CFR 351.218(e)(1)(ii)(C)(2) because it received a complete timely and adequate notice of intent to participate in the sunset review and substantive response from domestic interested parties ³ but no substantive responses from respondent interested parties. As a result of its review, Commerce determined pursuant to sections 751(c)(1) and 752(c) of the Act, that revocation of the Order would likely lead to continuation or recurrence of dumping. Commerce also notified the ITC of the magnitude of the dumping margins likely to prevail should the Order be revoked.⁴ On June 25, 2020, the ITC published its determination, pursuant to sections 751(c) and 752(a) of the Act, that revocation of the Order would be likely to lead to continuation or recurrence of material injury to an industry in the United States within a reasonably foreseeable time.⁵

¹ See Antidumping Duty Order: Electrolytic Manganese Dioxide from the People's Republic of China, 73 FR 58537 (October 7, 2008) (Order).

² See Initiation of Five-Year (Sunset) Reviews, 84 FR 65968 (December 2, 2019); see also Electrolytic Manganese Dioxide From China; Institution of a Five-Year Review, 84 FR 66005 (December 2, 2019).

³ See Domestic Interested Parties' Letter, “Electrolytic Manganese Dioxide from the People's Republic of China: Notice of Intent to Participate,” dated December 17, 2019; see also Domestic Interested Parties' Letter, “Electrolytic Manganese Dioxide from the People's Republic of China: Substantive Response to Notice of Initiation of Five-Year (Sunset) Review of the Antidumping Duty Order,” dated January 2, 2020.

⁴ See Electrolytic Manganese Dioxide From the People's Republic of China: Final Results of the Expedited Second Sunset Review of the Antidumping Duty Order, 85 FR 16057 (March 20, 2020) (Final Results).

⁵ See Electrolytic Manganese Dioxide from China; Determination, Investigation No. 731-TA-1125 (Second Review), 85 FR 38159 (June 25, 2020).

Scope of the Order

The merchandise covered by this Order includes all manganese dioxide (MnO2) that has been manufactured in an electrolysis process, whether in powder, chip, or plate form. Excluded from the scope are natural manganese dioxide (NMD) and chemical manganese dioxide (CMD). The merchandise subject to this Order is classified in the Harmonized Tariff Schedule of the United States (HTSUS) at subheading 2820.10.00.00. While the HTSUS subheading is provided for convenience and customs purposes, the written description of the scope of this Order is dispositive.

Continuation of the Order

As a result of the determinations by Commerce and the ITC that revocation of the Order would likely lead to continuation or recurrence of dumping and material injury to an industry in the United States, pursuant to section 751(d)(2) of the Act and 19 CFR 351.218(a), Commerce hereby orders the continuation of the AD order on electrolytic manganese dioxide from China. U.S. Customs and Border Protection will continue to collect AD cash deposits at the rates in effect at the time of entry for all imports of subject merchandise. The effective date of the continuation of the Order will be the date of publication in the Federal Register of this notice of continuation. Pursuant to section 751(c)(2) of the Act and 19 CFR 351.218(c)(2), Commerce intends to initiate the next sunset review of the Order not later than 30 days prior to the fifth anniversary of the effective date of continuation.

Notification to Interested Parties

This five-year sunset review and this notice are in accordance with sections 751(c) and 751(d)(2) of the Act and this notice is published pursuant to section 777(i)(1) of the Act and 19 CFR 351.218(f)(4).

Dated: June 30, 2020.
Jeffrey I. Kessler,
Assistant Secretary for Enforcement and Compliance.

[FR Doc. 2020-14681 Filed 7-7-20; 8:45 am]

BILLING CODE 3510-DS-P